INTERNATIONAL TRADE COMMISSION

[Investigation Nos. 731-TA-1063, 1064, 1066-1068 (Review)]

Frozen Warmwater Shrimp From Brazil, China, India, Thailand, and Vietnam

Determinations

On the basis of the record ¹ developed in the subject five-year reviews, the United States International Trade Commission (Commission) determines, pursuant to section 751(c) of the Tariff Act of 1930 (19 U.S.C. 1675(c)), that revocation of the antidumping duty orders on frozen warmwater shrimp from Brazil, China, India, Thailand, and Vietnam would be likely to lead to continuation or recurrence of material injury to an industry in the United States within a reasonably foreseeable time.²

¹ The record is defined in sec. 207.2(f) of the Commission's Rules of Practice and Procedure (19 CFR 207.2(f)).

² Commissioner Daniel R. Pearson determines that revocation of the antidumping duty orders covering frozen warmwater shrimp from Brazil, China, India, Thailand, and Vietnam would not be likely to lead to continuation or recurrence of material injury to an industry in the United States within a reasonably foreseeable time.

Background

The Commission instituted these reviews on January 4, 2010 (75 FR 1078, January 8, 2010) and determined on April 9, 2010 that it would conduct full reviews (75 FR 22424, April 28, 2010). Notice of the scheduling of the Commission's reviews and of a public hearing to be held in connection therewith was given by posting copies of the notice in the Office of the Secretary, U.S. International Trade Commission, Washington, DC, and by publishing the notice in the Federal Register on August 11, 2010 (75 FR 48724). The hearing was held in Washington, DC, on February 1, 2011, and all persons who requested the opportunity were permitted to appear in person or by counsel.

The Commission transmitted its determinations in these reviews to the Secretary of Commerce on March 30, 2011. The views of the Commission are contained in USITC Publication 4221 (March 2011), entitled Frozen Warmwater Shrimp From Brazil, China, India, Thailand, and Vietnam: Investigation Nos. 1063, 1064, 1066-1068 (Review).

By order of the Commission.
Issued: March 30, 2011.
James R. Holbein,
Acting Secretary to the Commission.

[FR Doc. 2011-7996 Filed 4-4-11; 8:45 am]

BILLING CODE P